DEPARTMENT OF ENERGY

Federal Energy Regulatory Commission

[Docket No. CP06-54-000]

Broadwater Energy, LLC; Notice of Technical Conference

May 18, 2006.

On Tuesday and Wednesday, June 6 and 7, 2006, at 9 a.m. (EDT), staff of the Office of Energy Projects will convene a cryogenic design and technical conference regarding the proposed Broadwater Floating Storage Regasification Unit. The cryogenic conference will be held at the Danfords on the Sound located at 25 East Broadway, Port Jefferson, New York.

In view of the nature of critical energy infrastructure information and security issues to be explored, the cryogenic conference will not be open to the public. Attendance at this conference will be limited to existing parties to the proceeding (anyone who has specifically requested to intervene as a party) and to representatives of interested Federal, state, and local agencies. Any person planning to attend the June 6 and 7 cryogenic conference must register by close of business on Monday, June 5, 2006. Registrations may be submitted either online at http://www.ferc.gov/whats-new/registration/cryo-conf-form.asp or by faxing a copy of the form (found at the referenced online link) to 202-208-0353. All attendees must sign a non-disclosure statement prior to entering the conference. Upon arrival at the hotel, check the reader board in the hotel lobby for venue. For additional information regarding the cryogenic conference, please contact Phil Suter at phillip.suter@ferc.gov or 202-502-6368.

Magalie R. Salas,
Secretary.

[FR Doc. E6-7958 Filed 5-23-06; 8:45 am]

BILLING CODE 6717-01-P